DEPARTMENT OF JUSTICE

Drug Enforcement Administration

[Docket No. DEA-261N]

Solicitation of Comments on Dispensing of Controlled Substances for the Treatment of Pain

AGENCY: Drug Enforcement Administration (DEA), Department of Justice.

ACTION: Notice; solicitation of comments.

SUMMARY: On November 16, 2004, DEA published in the Federal Register an Interim Policy Statement on the dispensing of controlled substances for the treatment of pain. The Interim Policy Statement stated that DEA would address the subject in greater detail in a future Federal Register document, taking into consideration the views of the medical community. DEA is hereby seeking comments from physicians and other interested members of the public as to what areas of the law relating to the dispensing of controlled substances for the treatment of pain they would like DEA to address in the upcoming Federal Register document.

DATES: Written comments must be postmarked, and electronic comments must be sent, on or before March 21, 2005.

ADDRESSES: To ensure proper handling of comments, please reference “Docket No. DEA-261” on all written and electronic correspondence. Written comments being sent via regular mail should be sent to the Deputy Administrator, Drug Enforcement Administration, Washington, DC 20537, Attention: DEA Federal Register Representative/CCD. Written comments sent via express mail should be sent to DEA Headquarters, Attention: DEA Federal Register Representative/CCD, 2401 Jefferson-Davis Highway, Alexandria, VA 22301.

Comments may be directly sent to DEA electronically by sending an electronic message to dea.diversion.policy@usdoj.gov. Comments may also be sent electronically through http://www.regulations.gov using the electronic comment form provided on that site. An electronic copy of this document is also available at the http://www.regulations.gov Web site. DEA will accept attachments to electronic comments in Microsoft Word, WordPerfect, Adobe PDF, or Excel file formats only. DEA will not accept any file format other than those specifically listed here.

FOR FURTHER INFORMATION CONTACT: Daniel Dormont, Senior Attorney, Drug Enforcement Administration, Washington, DC 20537; telephone: (202) 307-8010.

SUPPLEMENTARY INFORMATION: On November 16, 2004, DEA published in the Federal Register an Interim Policy Statement on the dispensing of controlled substances for the treatment of pain. 69 FR 67170. The Interim Policy Statement explained why an earlier document, which appeared on the DEA Office of Diversion Control Web site in August 2004, contained misstatements and was not approved as an official statement of the agency. The Interim Policy Statement corrected some of the misstatements in the August 2004 document and announced that DEA would address, in greater detail, the subject of dispensing controlled substances for the treatment of pain in a future Federal Register document, taking into consideration the views of the medical community. This upcoming document will stay within the scope of DEA's authority by addressing the law the agency administers, the Controlled Substances Act (CSA), and the DEA regulations promulgated thereunder, as well as the pertinent court decisions. As indicated in the Interim Policy Statement, the document will contain a recitation of the relevant provisions of the CSA and DEA regulations relating to the dispensing of controlled substances for the treatment of pain. The purpose of this recitation will be to provide guidance and reassurance to the overwhelming majority of physicians who engage in legitimate pain treatment while deterring unlawful prescribing and dispensing of pharmaceutical controlled substances.

As was the case with the Interim Policy Statement, none of the principles addressed in the upcoming Federal Register document will be new. Rather, the document will reiterate legal concepts that have been incorporated in the federal laws and regulations for many years and are reflected in federal court decisions and DEA final administrative orders. DEA recognizes the desire of many physicians and members of the public to have these concepts reiterated in a single, comprehensive document. Toward that end, DEA is hereby seeking the input of physicians, pharmacists, and other interested members of the public. Any person who so desires should indicate, in writing, the areas of the law relating to controlled substances that they would like DEA to address in the upcoming document. DEA will consider all such comments submitted on or before March 21, 2005.

Dated: January 11, 2005.
Michele M. Leonhart,
Deputy Administrator.

[FR Doc. 05-906 Filed 1-14-05; 8:45 am]

BILLING CODE 4410-09-P